NUCLEAR REGULATORY COMMISSION

10 CFR Part 26

[Docket No. PRM-26-4; NRC-2010-0269]

California Association of Marriage and Family Therapists; Notice of Receipt of Petition for Rulemaking

AGENCY: Nuclear Regulatory Commission.

ACTION: Petition for rulemaking; notice of receipt.

SUMMARY: The Nuclear Regulatory Commission (NRC) has received and requests public comment on a petition for rulemaking dated March 24, 2010, and supplemented on July 12, 2010, filed by the California Association of Marriage and Family Therapists (CAMFT) (petitioner). The petition was docketed by the NRC and has been assigned Docket No. PRM-26-4. The petitioner requests that the NRC amend its regulations to add marriage and family therapists (MFT) as substance abuse experts (SAEs).

DATES: Submit comments by November 8, 2010. Comments received after this date will be considered if it is practical to do so, but the NRC is able to assure consideration only for comments received on or before this date.

ADDRESSES: Please include Docket ID NRC-2010-0269 in the subject line of your comments. For instructions on submitting comments and accessing documents related to this action, see “Submitting Comments and Accessing Information” in the SUPPLEMENTARY INFORMATION section of this document. You may submit comments by any one of the following methods.

Federal Rulemaking Web Site: Go to http://www.regulations.gov and search for documents filed under Docket ID NRC-2010-0269. Address questions about NRC dockets to Carol Gallagher, telephone 301-492-3668; e-mail Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1966.

Hand Deliver comments to: 11555 Rockville Pike, Rockville, Maryland 20852 between 7:30 a.m. and 4:15 p.m. during Federal workdays (Telephone 301-415-1966).

Fax comments to: Secretary, U.S. Nuclear Regulatory Commission at 301-415-1101.

For a copy of the petition, write to Betty Golden, Rules, Announcements, and Directives Branch (MS TWB-5 B1M), Office of Administration, U.S. Nuclear Regulatory Commission, Washington, DC 20555-0001.

FOR FURTHER INFORMATION CONTACT: Cindy Bladey, Chief, Rules, Announcements, and Directives Branch, Division of Administrative Services, Office of Administration, U.S. Nuclear Regulatory Commission, Washington, DC 20555-0001, Telephone 301-492-3667, toll free 800-368-5642, Cindy.Bladey@nrc.gov.

SUPPLEMENTARY INFORMATION:

Submitting Comments and Accessing Information

Comments submitted in writing or in electronic form will be posted on the NRC Web site and on the Federal rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document, including the following documents, using the following methods:

NRC's Public Document Room (PDR): The public may examine and have copied for a fee publicly available documents at the NRC's PDR, Room O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, or 301-415-4737, or by e-mail to PDR.Resource@nrc.gov. The ADAMS accession numbers for the petition are ML102030370 (March 24, 2010 letter) and ML102000432 (July 12, 2010 letter).

Federal Rulemaking Web Site: Public comments and supporting materials related to this action, including the petition for rulemaking, can be found at http://www.regulations.gov by searching on Docket ID NRC-2010-0269.

Background

On March 24, 2010, the NRC received a request submitted by CAMFT for the NRC to amend its regulations at 10 CFR 26.187(b) to add marriage and family therapists (MFTs) as substance abuse experts (SAE). The NRC requested additional information on the petitioner's request. The petitioner provided this supplementary information to the NRC in a letter dated July 12, 2010, and the request has been docketed as a petition for rulemaking and assigned Docket No. PRM-26-4. The petitioner states that its interest in the requested action is to pursue changes in law, whether statutory or regulatory, that increase professional opportunities for MFTs, and that treat the profession on par with the other mental health disciplines.

The Petition

The petitioner states that MFTs should be included as SAEs for the following reasons:

(1) The petitioner believes that this amendment would enable MFTs who are qualified to address substance abuse issues by virtue of their education, training, and experience to evaluate individuals who have violated the NRC's fitness for duty policies. The petitioner states that these MFTs would also be able to make recommendations concerning education, treatment, return to duty, follow-up drug and alcohol testing, and aftercare. The petitioner states that many MFTs in California perform this work on a daily basis, both in inpatient and outpatient treatment settings. The petitioner states that “qualified” means that the MFT providing these services would meet the “basic knowledge” requirement presented in 10 CFR 26.187(c) (i.e., demonstrated knowledge of and clinical experience in the diagnosis and treatment of alcohol and substance abuse disorders), and would comply with any continuing education requirements. The petitioner states that, in California, MFTs receive the same amount of required instruction in substance abuse issues that psychologists receive. MFTs also receive the same amount of required instruction that licensed clinical social workers receive.

(2) The petitioner believes that the role of a SAE should be open to any mental health professional, regardless of licensure, who can demonstrate that he or she is qualified to be a SAE. The petitioner states that in the NRC's response to Industry Comment 2 (in the 10 CFR Part 26 proposed rule, “Fitness for Duty Programs,” published on August 26, 2005; 70 FR 50441), the NRC addressed the question of whether only licensed physicians could be SAEs. The petitioner states that the NRC concluded that the “SAE need not be a licensed physician, but would be required to have extensive expertise, such as a licensed or certified social worker, psychologist, or others listed in § 26.187(b), and additional qualifications specifically related to substance abuse disorders.” Consequently, the petitioner believes that under the NRC's own rationale for the position of SAE, the emphasis is not on a particular license designation. Rather, the emphasis is on whether the individual licensee has “extensive expertise” in diagnosing and treating alcohol and substance abuse issues. The petitioner states that MFTs should be included in the list of credentialed professionals because they are recognized by the Department of Health and Human Services, along with psychiatry, psychology, clinical social work and psychiatric nursing as one of the five core mental health disciplines in the United States, and they are trained to assess and treat substance abuse issues.

(3) The petitioner states that California law allows MFTs and licensed clinical social workers to diagnose and treat mental disorders. The petitioner believes that if licensed clinical social workers are included on the list of professionals to diagnose and treat mental disorders, then MFTs should also be included. The petitioner states that in California there is much overlap of the professional duties and responsibilities of marriage and family therapists, psychologists, and clinical social workers, especially in the area of alcohol and substance abuse counseling. The petitioner believes that all of these professions have licensees who, by virtue of their education, training, and experience, have “extensive expertise” in diagnosing and treating alcohol and substance abuse issues. The petitioner believes that, if the NRC allows licensed or certified social workers and licensed or certified psychologists to be SAEs, it should also allow MFTs to be SAEs.

(4) The petitioner believes that the trend of the Federal Government is to include MFTs as providers of substance abuse services within government programs. The petitioner states that the Department of Transportation recently amended its regulations to allow MFTs to be “substance abuse professionals” and to perform counseling services with its employees, and the Federal Health Resources Services Administration has included MFTs on its list of five core mental health disciplines.

(5) The petitioner states that the licensing and regulation of MFTs is done by all fifty states. The petitioner states that although licensing is conducted by individual states, the vast majority of states require candidates to pass the national MFT examination, which is administered by the Association of Marital and Family Therapy Regulatory Boards (AMFTRB). The National MFT examination tests prospective MFTs on their knowledge of substance abuse issues and treatment. The petitioner states that in terms of substance abuse issues, the AMFTRB tests prospective MFTs on their knowledge of how substance abuse and dependency affect the individual and the functioning of his or her family; the effects of addictive behavior on the individual and the family system; and addiction treatment modalities.

The petitioner provided the following documents as attachments to its petition for rulemaking. These documents are not included in this publication. (See the ADDRESSES section of this document for instructions on accessing a copy of the petition for rulemaking.)

• California Business & Professions Code § 498.36, § 1887.3, § 29, § 2914, § 1382.3, and § 4996.2;

• Yale School of Medicine Bulletin;

• NAADAC Guide to Certification; and

• Employee Assistance Professionals Association, “How to Become a CEAP”.

In summary, the petitioner believes that MFTs should be included in the list of credentialed professionals presented in 10 CFR 26.187(b). The petitioner states that it realizes the importance of the role SAEs play in safeguarding the United States and its citizens, and believes that the members of CAMFT who are qualified to be SAEs would be a credit to the NRC.

Dated at Rockville, Maryland, this 18th day of August 2010.
For the Nuclear Regulatory Commission.
Annette L. Vietti-Cook,
Secretary of the Commission.

[FR Doc. 2010-21022 Filed 8-23-10; 8:45 am]

BILLING CODE 7590-01-P